Proclamation 9202 of October 31, 2014

National Alzheimer's Disease Awareness Month, 2014

By the President of the United States of America

A Proclamation

Across our Nation, as many as 5 million Americans live with Alzheimer's disease—currently an irreversible, incurable, and fatal disease. Together with their loved ones, these individuals experience the tragic realities of a disease that gradually erases cherished memories, affects behavior, and destroys the ability to live independently and carry out the simplest daily tasks. This month, we recognize all those whose lives have been touched by Alzheimer's, and we renew our commitment to making progress in the war against it.

The Federal Government is the world's leading funder of Alzheimer's research, and we are dedicated to finding ways to prevent and effectively treat this devastating disease by 2025. Guided by the National Plan to Address Alzheimer's Disease, my Administration is working to enhance care for Alzheimer's patients, expand support for all people with dementia, and strengthen public-private partnerships to support the Alzheimer's community. We have funded major new clinical trials, helped train health care providers to diagnosis and manage dementia, and launched a new website that serves as a one-stop resource on Alzheimer's issues. And this year, as part of our Brain Research through Advancing Innovative Neurotechnologies (BRAIN) Initiative, we announced new investments to support the research that could unlock the answers to this disease. To learn more about Alzheimer's disease—including risk factors and early signs and symptoms—and to access resources for patients and caregivers, Americans can visit www.Alzheimers.gov.

During National Alzheimer's Disease Awareness Month, we join with researchers, health care providers, and patient advocates across our country to lift up all those who are battling this disease every day. As we come together to raise awareness about Alzheimer's, we honor the individuals who lost their lives to it, as well as the devotion and selflessness of the millions of caregivers who endure the financial and emotional strains of this disease. In their spirit, let us continue our work to end this debilitating ailment and its devastating effects.

NOW, THEREFORE, I, BARACK OBAMA, President of the United States of America, by virtue of the authority vested in me by the Constitution and the laws of the United States, do hereby proclaim November 2014 as National Alzheimer's Disease Awareness Month. I call upon the people of the United States to learn more about Alzheimer's disease and support the individuals living with this disease and their caregivers.

IN WITNESS WHEREOF, I have hereunto set my hand this thirty-first day of October, in the year of our Lord two thousand fourteen, and of the Independence of the United States of America the two hundred and thirty-ninth.

[FR Doc. 2014-26481

Filed 11-4-14; 11:15 am]

Billing code 3295-F5